DEPARTMENT OF ENERGY

Federal Energy Regulatory Commission

[Docket Nos. CP02-66-000]

Louisville Gas and Electric Company; Notice of Application

February 8, 2002.

Take notice that on January 14, 2002, Louisville Gas and Electric Company (Louisville) filed an application pursuant to section 7 of the Natural Gas Act (NGA) and 18 CFR 284.224 for a limited-jurisdiction blanket certificate of public convenience and necessity authorizing Louisville to offer open access firm and interruptible storage services in interstate commerce at market-based rates. Louisville includes with its application a Market Power Analysis which, it maintains, demonstrates that Louisville does not have market power in the relevant market for its proposed services. Louisville also submits with its filing an operational statement. Louisville states that it will offer the storage service by displacement through the two interstate pipelines serving Louisville—Texas Gas Transmission Corporation and Tennessee Gas Pipeline Company.

Louisville states that questions concerning this filing may be directed to James F. Bowe, Jr., Dewey Ballantine LLP, at (202) 429-1444 (fax (202) 429-1579, email jbowe@deweyballantine.com).

Any person desiring to be heard or to protest this filing should file a motion to intervene or protest with the Federal Energy Regulatory Commission, 888 First Street, NE., Washington, DC 20426, in accordance with sections 385.211 and 384.214 of the Commission's rules of practices and procedures. All such motions or protests must be filed not later than March 8, 2002. Protests will be considered by the Commission in determining the appropriate action to be taken, but will not serve to make protestants parties to the proceeding. Any person wishing to become a party must file a motion to intervene. Copies of this filing are on file with the Commission and are available for public inspection in the Public Reference Room. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Take further notice that, pursuant to the authority contained in a subject to the jurisdiction conferred upon the Federal Energy Regulatory Commission by sections 7 and 15 of the NGA and the Commission's rules of practice and procedures, a hearing will be held without further notice before the Commission or its designee on this application if no motion to intervene is filed within the time required herein ir if the Commission on its own review of the matter finds that a grant of the subject authorization is required by the public convenience and necessity. If a motion for leave to intervene is timely filed or if the Commission on its own motion believes that a formal hearing is required, further notice of such hearing will be duly given.

Under the procedure herein provided for, unless otherwise advised, it will be unnecessary for Louisville to appear or to be represented at the hearing.

Magalie R. Salas,
Secretary.

[FR Doc. 02-3641 Filed 2-13-02; 8:45 am]

BILLING CODE 6717-01-P